TENNESSEE VALLEY AUTHORITY

Paperwork Reduction Act of 1995, as amended by Public Law 104-13; Submission for OMB Review; Comment Request

AGENCY: Tennessee Valley Authority.

ACTION: Submission for OMB Review; Comment Request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Mark R. Winter, Tennessee Valley Authority, 1101 Market Street (EB 5B), Chattanooga, Tennessee 37402-2801; (423) 751-6004. Comments should be sent to OMB Office of Information & Regulatory Affairs, Attention: Desk Officer for Tennessee Valley Authority, no later than April 11, 2008.

SUPPLEMENTARY INFORMATION: Type of Request: Regular Submission; proposal for a reinstatement of a previously approved collection (OMB control number 3316-0009).

Title of Information Collection: Salary Surveys for Engineering Association (EA) and Law Enforcement Employee Association (LEEA) Bargaining Unit Employees.

Frequency of Use: Every one to three years.

Type of Affected Public: State or local governments, Federal agencies, non-profit institutions, businesses, or other for-profit.

Small Business or Organizations Affected: EA: 30 LEEA: 20.

Federal Budget Functional Category Code: 999.

Estimated Number of Annual Responses: EA: 30 LEEA: 20.

Estimated Total Annual Burden Hours: EA: 120 LEEA: 60.

Estimated Average Burden Hours Per Response: EA: 4 LEEA: 3.

Need For and Use of Information: TVA conducts a survey for employee compensation and benefits every one to three years as a basis for labor negotiations in determining prevailing rates of pay and benefits for represented employees. TVA surveys firms, and Federal, State, and local governments whose employees perform work similar to that of TVA's employees.

Steven A. Anderson,
Senior Manager, IT Planning & Governance, Information Services.

[FR Doc. 08-1006 Filed 3-11-08; 8:45 am]

BILLING CODE 8120-08-M